FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

1-800 Shipping, Inc. (OFF), 700 W. Hillsboro Blvd. Suite 3-204, Deerfield Beach, FL 33441, Officers: Thomas Jacob, Director (QI), Kristen Obst, Director, Application Type: New OFF.

American Transit Shipping Inc (NVO & OFF), 3122 Fulton Street, Ground Floor, Brooklyn, NY 11208, Officers: Chukwuma I. Oka, President (QI), Ugochinyere I. Oka, Secretary, Application Type: New NVO & OFF License.

Aprile USA, Inc. (NVO & OFF), 1370 Broadway, Suite 1400, New York, NY 10018, Officers: Satish Arora, Assistant Secretary (QI), Carlo Pozzi, President, Application Type: Add OFF Service.

Armada Services, LLC (NVO & OFF), 519 S. Ellwood Avenue, 2nd Floor, Baltimore, MD 21224, Officers: Stephen R. Brodie, Chief Export Officer (QI), Katrina N. Dill, Managing Director, Application Type: New NVO & OFF License.

Nancy S. Frederick dba Action Worldwide Cargo Services (NVO), 16511 Hedgecroft Drive, Suite 204, Houston, TX 77060, Officer: Nancy L. Frederick, President (QI), Application Type: Business Structure change to the corporation, Action Worldwide Cargo Services Inc.

Oriental Cargo Forwarders, LLC (NVO), 2720 E. Plaza Blvd., Suite T, National City, CA 91950, Officers: Alexander Y. Tiu, Vice Manager (QI), Emma Salameh, Managing Member, Application Type: New NVO License.

Portos Logistics, LLC (NVO & OFF), 5516 NW 72nd Avenue, Suite 5516, Miami, FL 33166, Officer: Jesus A. Herrera, Manager Member (QI), Application Type: New NVO & OFF License.

Shipping International, Inc. (NVO), 975-66th Avenue, Oakland, CA 94621, Officers: Mehdi Bolourchi, President (QI), Jafar Bolourchi, Vice President, Application Type: New NVO License.

Worldwide Cargo Express, Inc. (OFF), 76 West 13775 South, Suite 8, Draper, UT 84020, Officers: Dana M. Ferguson, Treasurer (QI), Necia G. Clark-Mantle, President, Application Type: Name Change to Worldwide Cargo, Inc.

By the Commission.
Dated: August 22, 2013.
Karen V. Gregory,
Secretary.

[FR Doc. 2013-21042 Filed 8-28-13; 8:45 am]

BILLING CODE 6730-01-P